DEPARTMENT OF STATE

[Public Notice 4384]

Bureau of Political-Military Affairs; Export of Defense Articles and Defense Services to India and Pakistan

AGENCY: Department of State.

ACTION: Notice.

SUMMARY: Notice is hereby given that requests for export and retransfer of defense articles, defense services and related technical data to India or Pakistan pursuant to section 38 of the Arms Export Control Act (AECA) will be considered on a standard case-by-case basis. This notice reverses the policy of denial set forth in Federal RegisterNotices published on May 20, 1998 and June 17, 1998.

EFFECTIVE DATE: June 20, 2003.

FOR FURTHER INFORMATION CONTACT: Peter J. Berry, Director, Office of Defense Trade Controls Licensing, Directorate of Defense Trade Controls, Bureau of Political-Military Affairs, Department of State (202) 663-2700.

SUPPLEMENTARY INFORMATION: In 1998, pursuant to a Presidential determination under section 102(b) of the AECA, two Federal Register notices were published (63 FR 27781, May 20, 1998; and 63 FR 33122, June 17, 1998) that revoked all licenses and approvals to export or otherwise transfer defense articles and defense services to India and Pakistan, respectively. These Federal Register notices set forth a policy of denial for new requests for such licenses/approvals.

The President issued a waiver of the Glenn Amendment sanctions on India and Pakistan on September 22, 2001. Pursuant to section 9001(b) of the Department of Defense Appropriations Act, 2000 (Pub. L. 106-79), the President determined and certified to Congress that the sanctions and prohibitions in subparagraphs (B), (C), and (G) of section 102(b)(2) of the AECA would not be in the national security interests of the United States. (66 FR 50095, October 2, 2001.)

Section 9001(e) of the Department of Defense Appropriations Act, 2000, specifies that the issuance of a license for the export of defense articles, services, or technology to India or Pakistan pursuant to the waiver authority is subject to the same requirements as are applicable to the export of items described in section 36(c) of the AECA, including the transmittal of information and the application of Congressional review procedures. Consistent with this requirement, the Department provided a certification to Congress of proposed licenses or other approvals for the export of defense articles and defense services for India or Pakistan, regardless of the dollar value of the export.

The Foreign Relations Authorization Act, Fiscal Year 2003 (Pub. L. 107-228) amended the congressional notification requirements stated in section 9001(e) of the Department of Defense Appropriations Act, 2000. Pursuant to section 1405(b) export licenses to Pakistan or India must be reported to Congress only if they meet or exceed the dollar value thresholds of section 36(c) of the AECA. These thresholds are $14,000,000 for major defense equipment and $50,000,000 for defense articles or services.

Finally, on November 21, 2002 Missile Technology Control Regime (MTCR) Category I missile sanctions imposed on the Pakistani Ministry of Defense (MOD) and the Space and Upper Atmosphere Research Commission (SUPARCO) expired. These sanctions were imposed for engaging in missile-related cooperation with Chinese entities (Section 73(a)(1) of the Arms Export Control Act (AECA) and Section 11B of the Export Administration Act (EAA) of 1979, as amended). Therefore, licenses for the transfer of items on the United States Munitions List (USML) to the Pakistani MOD and SUPARCO will no longer be denied based on these sanctions.

In light of the Presidential waiver of the Glenn Amendment sanctions, the reestablishment of the dollar thresholds for congressional notification, and the expiration of the MTCR Category I missile sanctions, it is the policy of the Department to consider, on a standard case-by-case basis, applications and other requests for approval pertaining to defense articles/defense services for export/transfer to India or Pakistan.

Dated: June 25, 2003.
Lincoln P. Bloomfield, Jr.,
Assistant Secretary, Bureau of Political-Military Affairs, Department of State.

[FR Doc. 03-15651 Filed 6-19-03; 8:45 am]

BILLING CODE 4710-25-P